DEPARTMENT OF JUSTICE

Notice of Lodging of Consent Decree Under the Resource Conservation and Recovery Act

Notice is hereby given that on May 19, 2010, a proposed Consent Decree between the United States of America and Rineco Chemical Industries, Inc. (“Rineco”) was lodged with the United States District Court for the Eastern District of Arkansas in the case of United States v. Rineco Chemical Industries, Inc., Civil Action No. 4-07-CV-01189SWW.

In December 2007, the United States filed a complaint seeking injunctive relief and civil penalties resulting from Rineco's failure, inter alia, to obtain a permit under the Resource Conservation and Recovery Act (“RCRA”) for its ownership and operation of a Thermal Metal Washing unit (“TMW”), in violation of Section 3005(a) of RCRA, 42 U.S.C. 6925(a); and applicable Arkansas Pollution Control and Ecology Commission regulations in connection with Rineco's fuel blending facility located in Benton, Arkansas.

The Consent Decree requires Rineco to apply for a RCRA permit for the TMW and its related hazardous waste storage and control any fugitive emissions from the TMW at the facility; perform trial and risk burns for the TMW to identify appropriate incinerator level and risk based operating and control parameters for the unit; file a notification and description of hazardous waste activity for the TMW; and establish financial assurances for the TMW and its related hazardous waste storage. Rineco will pay a civil penalty of $1,350,000.

The Department of Justice will receive for a period of thirty (30) days from the date of this publication comments relating to the proposed Consent Decree. Comments should be addressed to the Assistant Attorney General, Environment and Natural Resources Division, and either e-mailed to pubcomment-ees.enrd@usdoj.gov, or mailed to P.O. Box 7611, U.S. Department of Justice, Washington, DC 20044-7611, and should refer to United States et al v. Rineco Chemical Industries, Inc., D.J. Ref. # 90-7-1-08902.

The Consent Decree may be examined at U.S. EPA Region 6, 1445 Ross Avenue, Dallas, Texas 75202 (contact Terry Sykes). During the public comment period, the Consent Decree also may be examined on the following Department of Justice Web site: http://www.usdoj.gov/enrd/Consent_Decrees.html. A copy of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $11.75 (25 cents per page reproduction cost) payable to the U.S. Treasury, or, if by e-mail or fax, forward a check in that amount to the Consent Decree Library at the stated address.

Maureen Katz,
Assistant Chief, Environmental Enforcement Section, Environment and Natural Resources Division.

[FR Doc. 2010-12584 Filed 5-25-10; 8:45 am]

BILLING CODE 4410-15-P